FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

P.O.L. International Inc., 8610 Airport Blvd., 2nd Floor, #8, Los Angeles, CA 90045, Officers: Steven C. Chow, Vice President (Qualifying Individual), Tiffany Xue Leung, President.

Speedy Freight Services, 33442 Western Avenue, Union City, CA 94587, Officer: Mike Chiali Chu, CEO (Qualifying Individual).

Non-Vessel-Operating Common Carrier and Ocean Freight Forwarder Transportation Intermediary Applicant

Air Ocean International Forwarders, Inc., 1601 NW 82nd Avenue, Miami, FL 33126, Officers: Rossin V. Garcia, Vice President (Qualifying Individual), Manuel Garcia, President.

Dated: December 23, 2005.
Bryant L. VanBrakle,
Secretary.

[FR Doc. E5-8009 Filed 12-28-05; 8:45 am]

BILLING CODE 6730-01-P